DEPARTMENT OF THE INTERIOR

[FWS-R4-ES-2021-N165; FVHC98220410150-XXX-FF04H00000]

Florida Trustee Implementation Group Deepwater Horizon Oil Spill Final Restoration Plan 2 and Environmental Assessment: Habitat Projects on Federally Managed Lands, Sea Turtles, Marine Mammals, Birds, and Provide and Enhance Recreational Opportunities; and Finding of No Significant Impact

AGENCY: Department of the Interior.

ACTION: Notice of availability.

SUMMARY: In accordance with the Oil Pollution Act of 1990 (OPA); the National Environmental Policy Act of 1969 (NEPA); the Final Programmatic Damage Assessment Restoration Plan and Final Programmatic Environmental Impact Statement (Final PDARP/PEIS) and Record of Decision; and the Consent Decree, the Federal and State natural resource trustee agencies for the Florida Trustee Implementation Group (FL TIG) have prepared the Florida Trustee Implementation Group Final Restoration Plan 2 and Environmental Assessment: Habitat Projects on Federally Managed Lands; Sea Turtles; Marine Mammals; Birds; and Provide and Enhance Recreational Opportunities (Final RP2/EA), and Finding of No Significant Impact (FONSI). In the Final RP2/EA, the FL TIG analyzed projects to help restore injured habitats, sea turtles, marine mammals, and birds, and to compensate for lost recreational use in the Florida Restoration Area as a result of the Deepwater Horizon (DWH) oil spill. The Final RP2/EA describes and, in conjunction with the associated FONSI, selects the preferred restoration projects considered by the FL TIG to partially restore natural resources and ecological services injured or lost as a result of the Deepwater Horizon oil spill. The approximate cost to implement the FL TIG's proposed action is $62,000,000. The purpose of this notice is to inform the public of the availability of the Final RP2/EA and FONSI.

ADDRESSES: Obtaining Documents: You may download the Final RP2/EA from either of the following websites:

• https://www.doi.gov/deepwaterhorizon

• https://www.gulfspillrestoration.noaa.gov/restoration-areas/florida

Alternatively, you may request a CD of the Final RP2/EA (see FOR FURTHER INFORMATION CONTACT).

FOR FURTHER INFORMATION CONTACT: Nanciann Regalado, at nanciann_regalado@fws.gov or 678-296-6805, or via the Federal Relay Service at 800-877-8339.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The DWH oil spill is the largest offshore oil spill in U.S. history, discharging millions of barrels of oil over a period of 87 days. In addition, well over 1 million gallons of dispersants were applied to the waters of the spill area in an attempt to disperse the spilled oil. An undetermined amount of natural gas was also released into the environment as a result of the spill.

The Trustees conducted the natural resource damage assessment (NRDA) for the DWH oil spill under the Oil Pollution Act 1990 (OPA; 33 U.S.C. 2701 et seq.). Pursuant to OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship to baseline (the resource quality and conditions that would exist if the spill had not occurred). This includes the loss of use and services provided by those resources from the time of injury until the completion of restoration.

The DWH Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

On April 4, 2016, the United States District Court for the Eastern District of Louisiana entered a Consent Decree resolving civil claims by the Trustees against BP arising from the DWH oil spill: United States v. BPXP et al., Civ. No. 10-4536, centralized in MDL 2179, In re: Oil Spill by the Oil Rig “Deepwater Horizon” in the Gulf of Mexico, on April 20, 2010 (E.D. La.) (http://www.justice.gov/enrd/deepwater-horizon). Pursuant to the Consent Decree, restoration projects in the Florida Restoration Area are chosen and managed by the FL TIG. The FL TIG is composed of the following Trustees: State of Florida Department of Environmental Protection and Fish and Wildlife Conservation Commission; DOI; NOAA; EPA; and USDA.

Background

On August 20, 2019, the FL TIG posted a public notice at http://www.gulfspillrestoration.noaa.gov requesting natural resource restoration project ideas by September 20, 2019, for the Florida Restoration Area. The notice stated that the FL TIG was seeking project ideas for the following restoration types: (1) Habitat Projects on Federally Managed Lands; (2) Sea Turtles; (3) Marine Mammals; (4) Birds; (5) Provide and Enhance Recreational Opportunities; and (6) Oysters. On July 29, 2020, the FL TIG announced that it had initiated drafting of the Final RP2/EA and that it would include a reasonable range of restoration alternatives (projects) for five restoration types. The FL TIG decided not to include Oysters Restoration Type projects in the Draft RP2/EA (see Final RP2/EA for further details).

The FL TIG released the Draft RP2/EA on February 19, 2021, and its notice of availability was published in the Federal Register on February 25, 2021 (86 FR 11551). The Draft RP2/EA provided the FL TIG's analysis of alternatives that would meet the Trustees' goals to restore and conserve habitat, replenish and protect living coastal and marine resources, and provide and enhance recreational opportunities under OPA and NEPA, and identified the alternatives that were proposed as preferred for implementation. The public review and comment period ran through March 29, 2021. To facilitate public understanding of the document, the FL TIG held a public webinar on March 11, 2021, and accepted public comments during the webinar. The FL TIG considered the public comments received during the webinar, through direct submittals to its online public comment portal, and by USPS. A summary of comments and the FL TIG's responses to those comments are provided in Chapter 5 of the Final RP2/EA.

Overview of the FL TIG Final RP2/EA

The Final RP2/EA provides the FL TIG's analysis of the reasonable range of alternatives. The alternatives (projects) selected for implementation are presented in the following table under the restoration type from which funds would be allocated in accordance with the DWH Consent Decree. The FL TIG changed REC3, Engineering and Design for Pensacola Beach Park West Fishing Pier and Access Improvements, from a preferred to a non-preferred alternative after reviewing the public comments received on the project and undertaking additional project review and discussion with Escambia County. The total estimated cost for the eighteen selected projects is approximately $62,000,000.

Restoration Type: Habitat Projects on Federally Managed Lands

Johnson Beach Access Management and Habitat Protection

Perdido Key Sediment Placement

Pensacola Beach Fort Pickens Road Wildlife Lighting Retrofits

Restoration Type: Sea Turtles

Increased Observers and Outreach to Reduce Incidental Hooking of Sea Turtles in Recreational Fisheries along Florida's Gulf Coast

Reducing Threats to Sea Turtles through Removal of In-water Marine Debris along Florida's Gulf Coast

Assessing Risk and Conducting Public Outreach to Reduce Vessel Strikes on Sea Turtles along Florida's Gulf Coast

Restoration Type: Marine Mammals

Florida Gulf Coast Marine Mammal Stranding Network

Restoration Type: Birds

Gomez Key Oyster Reef Expansion and Breakwaters for American Oystercatchers

Egmont Key Vegetation Management and Dune Retention

Northeast Florida Coastal Predation Management

Florida Shorebird and Seabird Stewardship and Habitat Management—5 Years

Restoration Type: Provide and Enhance Recreational Opportunities

Pensacola Community Maritime Park Public Fishing Marina

Baars Park and Sanders Beach Kayak Fishing Trail Access Upgrades

Gulf Breeze Parks Boating and Fishing Access Upgrades

Lincoln Park Boat Ramp and Dock Improvements

Florida Artificial Reef Creation and Restoration—Phase 2

Apollo Beach Recreational Sportfish Hatchery Facility

Restoration Types: Habitat Projects on Federally Managed Lands and Provide and Enhance Recreational Opportunities

St. Vincent National Wildlife Refuge Access and Recreational Improvements through Acquisition at Indian Pass

The FL TIG also evaluated the No Action alternative and six action alternatives that were not selected for implementation. Restoration planning for the FL Restoration Area will continue.

Administrative Record

The documents comprising the Administrative Record for Final RP2/EA can be viewed electronically at https://www.doi.gov/deepwaterhorizon/adminrecord.

Authority

The authority for this action is the Oil Pollution Act of 1990 (33 U.S.C. 2701 et seq.), its implementing NRDA regulations found at 15 CFR 990, and the National Environmental Policy Act of 1969 (42 U.S.C. 4321 et seq.) and its implementing regulations found at 40 CFR 1500-1508.

Mary Josie Blanchard,
Department of the Interior, Director of Gulf of Mexico Restoration.

[FR Doc. 2021-13876 Filed 6-28-21; 8:45 am]

BILLING CODE 4333-15-P